NATIONAL FOUNDATION FOR THE ARTS AND THE HUMANITIES

National Endowment for the Arts; National Council on the Arts 173rd Meeting

Pursuant to section 10(a)(2) of the Federal Advisory Committee Act (Pub. L. 92-463), as amended, notice is hereby given that a meeting of the National Council on the Arts will be held on June 23-24, 2011 in Rooms 527 and M-09 at the Nancy Hanks Center, 1100 Pennsylvania Avenue, NW., Washington, DC 20506.

A portion of this meeting, from 12:15 p.m.-1:45 p.m. on June 23rd, will be closed for National Medal of Arts review and recommendations. The remainder of the meeting, from 9 a.m. to 11 a.m. on June 24th (ending time is approximate) in Room M-09, will be open to the public on a space available basis. Following opening remarks by the Chairman, the Council will vote on grants and guidelines. After the voting there will be presentations by Michael Harasimowicz, Vice Wing Commander, 70 Intelligence Surveillance and Reconnaissance Wing, Fort Meade, MD on Blue Star Museums; by Mayor Cedric B. Glover, Shreveport, LA on Creative Placemaking at Work; and by Lorna Jordan of Lorna Jordan Studios, Environmental Art in Madison, WI. The meeting will adjourn after announcement of voting results and concluding remarks.

The closed portions of meetings are for the purpose of review, discussion, evaluation, and recommendations on awards under the National Foundation on the Arts and the Humanities Act of 1965, as amended, including information given in confidence to the agency. In accordance with the determination of the Chairman of February 15, 2011, these sessions will be closed to the public pursuant to subsection (c)(6) of section 552b of Title 5, United States Code.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: June 8, 2011.
Kathy Plowitz-Worden,
Panel Coordinator, Office of Guidelines and Panel Operations.

[FR Doc. 2011-14561 Filed 6-10-11; 8:45 am]

BILLING CODE 7537-01-P